DEPARTMENT OF THE INTERIOR

National Park Service

[NPS-WASO-NRNHL-DTS#-33335; PPWOCRADI0, PCU00RP14.R50000]

National Register of Historic Places; Notification of Pending Nominations and Related Actions

AGENCY: National Park Service, Interior.

ACTION: Notice.

SUMMARY: The National Park Service is soliciting electronic comments on the significance of properties nominated before January 22, 2022, for listing or related actions in the National Register of Historic Places.

DATES: Comments should be submitted electronically by February 16, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 22, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Marshall County

Riemenschneider, August and Josephine, Farmstead, 201 4th Ave. NE, State Center, SG100007464

KANSAS

Johnson County

Campbell Dome House, 8126 Hamilton Dr., Overland Park, SG100007467

NEW YORK

Chemung County

North Main and West Water Commercial Historic District (Boundary Increase), 232-261 West Water St. and Wisner Park, North Main, West Grey, West Church and West First Sts., Elmira, BC100007465

OREGON

Malheur County

Rex Theater, 240 A St. West, Vale, SG100007459

Multnomah County

Dean's Beauty Salon and Barber Shop, (African American Resources in Portland, Oregon, from 1851 to 1973 MPS), 213-215 NE Hancock St., Portland, MP100007455

Golden West Hotel, (African American Resources in Portland, Oregon, from 1851 to 1973 MPS), 707 NW Everett St., Portland, MP100007456

Mt. Olivet Baptist Church, (African American Resources in Portland, Oregon, from 1851 to 1973 MPS), 1734 NE 1st Ave., Portland, MP100007457

Polk County

Burford-Stanley House, 342 Monmouth Ave. South, Monmouth, SG100007458

PENNSYLVANIA

Cameron County

Cameron County Courthouse, 20 East 5th St., Emporium, SG100007460

Erie County

Wright's Block, 425-431 State St., Erie, SG100007461

Additional documentation has been received for the following resources:

MISSISSIPPI

Hinds County

Farish Street Neighborhood Historic District (Additional Documentation), Roughly bounded by Amite, Mill, Fortification and Lamar Sts., Jackson, AD80002245

NEW YORK

Dutchess County

Halfway Diner, 39 North Broadway, Red Hook, AD87002297

Nominations submitted by Federal Preservation Officers:

The State Historic Preservation Officer reviewed the following nominations and responded to the Federal Preservation Officer within 45 days of receipt of the nominations and supports listing the properties in the National Register of Historic Places.

PUERTO RICO

San Juan Municipality

San Juan National Historic Site (Additional Documentation), 501 Norzagaray St., Castillo San Cristóbal, San Juan, AD66000930

Toa Baja Municipality

San Juan National Historic Site (Additional Documentation), 501 Norzagaray St., Castillo San Cristóbal, Toa Baja, AD66000930

(Authority: Section 60.13 of 36 CFR part 60)

Dated: January 26, 2022.
Sherry A. Frear,
Chief, National Register of Historic Places/National Historic Landmarks Program.

[FR Doc. 2022-01944 Filed 1-31-22; 8:45 am]

BILLING CODE 4312-52-P